Title 3—

The President

Proclamation 8425 of September 30, 2009

National Breast Cancer Awareness Month, 2009

By the President of the United States of America

A Proclamation

In 2009, more than 190,000 women are expected to be diagnosed with breast cancer, and more than 40,000 women are expected to die from this disease. It is the most common non-skin cancer and the second leading cause of cancer-related death among women in the United States. As we observe National Breast Cancer Awareness Month, we salute the brave Americans who are fighting this disease, including families and friends, advocates, researchers, and health care providers. We also pause to remember and pray for those we have lost to breast cancer.

Many Americans know someone who survived breast cancer due to early detection or improved treatment, and we must continue to discover ways to prevent, detect, and treat this disease. For us to better understand how breast cancer develops, to prevent recurrence, and to enhance the quality of life for survivors, we must support critical research programs. The National Institutes of Health, Department of Defense, and the Centers for Disease Control and Prevention will invest over $1 billion in research this year. Strengthening our knowledge of breast cancer development can lead to improvements in prevention and treatment.

Screening and early detection are essential to our Nation's fight against breast cancer. The National Cancer Institute recommends that women age 40 and older have mammograms every 1 to 2 years. Women who are at greater risk should talk with their health care providers about whether to have mammograms before age 40 and how often to have them. My Administration is committed to requiring insurance companies to cover mammograms with no extra charges, and prohibiting the denial of coverage based on pre-existing conditions, including breast cancer.

Breast cancer health disparities also present a serious challenge. White women have the highest breast cancer incidence rates, and African American women have higher mortality rates than other racial or ethnic groups in the United States. There is also evidence lesbian women are at a greater risk of developing breast cancer than heterosexual women. Every day, we are improving programs that address the issues women encounter in obtaining appropriate and timely treatment. As a Nation, we will overcome the financial and physical restraints of underserved populations and ensure access to quality health care.

Our Nation has made significant progress in the fight against breast cancer, and we remain firm in our commitment to do more. This month, we reaffirm our commitment to reduce the burden of breast cancer and our support for those who are living with this devastating disease. By raising awareness of this disease and supporting research, we can usher in a new era in our struggle against breast cancer.

NOW, THEREFORE, I, BARACK OBAMA, President of the United States of America, by virtue of the authority vested in me by the Constitution and the laws of the United States, do hereby proclaim October 2009, as National Breast Cancer Awareness Month. I encourage citizens, Government agencies, private businesses, nonprofit organizations, and other interested groups to join in activities that will help Americans understand what they can do to prevent and control breast cancer.

IN WITNESS WHEREOF, I have hereunto set my hand this thirtieth day of September, in the year of our Lord two thousand nine, and of the Independence of the United States of America the two hundred and thirty-fourth.

[FR Doc. E9-24199

Filed 10-5-09; 8:45 am]

Billing code 3195-W9-P